DEPARTMENT OF THE INTERIOR

Bureau of Land Management

[UT-910-05-1040-PH-24-1A]

Notice of Utah Resource Advisory Council Meeting

AGENCY: Bureau of Land Management, Department of Interior.

ACTION: Notice of Utah Resource Advisory Council (RAC) Meeting.

SUMMARY: In accordance with the Federal Land Policy and Management Act (FLPMA) and the Federal Advisory Committee Act of 1972 (FACA), the U.S. Department of the Interior, Bureau of Land Management's (BLM) Utah Resource Advisory Council (RAC) will meet as indicated below.

DATES: The Utah Resource Advisory Council (RAC) will meet June 13 (1-5) and June 14 (8-Noon), 2005, in Castle Dale, Utah. On June 13, the RAC will meet in the Castle Dale Courthouse which is located at 75 East Main, Castle Dale, Utah. A half-hour public comment period is scheduled to begin at 4:30 p.m. Written comments may be sent to the Bureau of Land Management address listed below. A field trip to the San Rafael Swell is scheduled for June 14.

FOR FURTHER INFORMATION CONTACT: Sherry Foot, Special Programs Coordinator, Utah State Office, Bureau of Land Management, P.O. Box 45155, Salt Lake City, Utah, 84145-0155; phone (801) 539-4195.

SUPPLEMENTARY INFORMATION: On June 13, the RAC will be given an update on the Richfield's Resource Management Plan (RMP); a presentation on Recreation Use Permits and the new regulation changes; an update from the San Rafael Swell Subgroup; a discussion on monitoring (how we can build it into the RMPs); revisiting the OHV issues; and, listening to a presentation from the Goodwill Riders Program. On June 14, the RAC will meet at the Castle Dale Courthouse for a field trip to the Wedge, in the San Rafael Swell, looking at the challenges in the past and at various camping areas; visiting the Buckhorn Wash rock art panel and discussing the ATV use in the area; and will be given a presentation on the San Rafael Route Designation Plan.

All meetings are open to the public; however, transportation, lodging, and meals are the responsibility of the participating public.

Dated: May 3, 2005.
Gene Terland,
Associate State Director.

[FR Doc. 05-9487 Filed 5-11-05; 8:45 am]

BILLING CODE 4310-DK-P